FEDERAL RETIREMENT THRIFT INVESTMENT BOARD

Notice of Board Meeting; Correction

AGENCY: Federal Retirement Thrift Investment Board.

ACTION: Notice; correction.

SUMMARY: The FRTIB published a document in the Federal Register of August 21, 2024, concerning a notice of its August 2024 Board Meeting. The notice contains an incorrect link required to join the meeting via Microsoft Teams.

FOR FURTHER INFORMATION CONTACT: Kimberly Weaver, Director, Office of External Affairs, (202) 942-1640.

SUPPLEMENTARY INFORMATION:

Correction

In the Federal Register of August 21, 2024, in FR Doc 2024-18652, on page 67637, replace the existing link with the following link under the heading Addresses, and following the phrase “via web”: https://teams.microsoft.com/l/meetup-join/19%3ameeting_MDMxZDRkODktMGZjZS00ZDQ3LWJkNmMtNzRjMDA4ZThkMDQ1%40thread.v2/0?context=%7b%22Tid%22%3a%223f6323b7-e3fd-4f35-b43d-1a7afae5910d%22%2c%22Oid%22%3a%221a441fb8-5318-4ad0-995b-f28a737f4128%22%7d.

Dated: August 21, 2024.
Dharmesh Vashee,
General Counsel.

[FR Doc. 2024-19054 Filed 8-23-24; 8:45 am]

BILLING CODE P